DEPARTMENT OF ENERGY

Federal Energy Regulatory Commission

Combined Notice of Filings #1

Take notice that the Commission received the following electric rate filings:

Docket Numbers: ER23-1221-002.

Applicants: Duquesne Light Company, PJM Interconnection, L.L.C.

Description: Tariff Amendment: Duquesne Light Company submits tariff filing per 35.17(b): Duquesne Amendment to Application BVDPT ER23-1221 to be effective 5/1/2023.

Filed Date: 5/12/23.

Accession Number: 20230512-5102.

Comment Date: 5 p.m. ET 6/2/23.

Docket Numbers: ER23-1222-002.

Applicants: Duquesne Light Company, PJM Interconnection, L.L.C.

Description: Tariff Amendment: Duquesne Light Company submits tariff filing per 35.17(b): Duquesne Amendment to Application DEEP ER23-1222 to be effective 5/1/2023.

Filed Date: 5/12/23.

Accession Number: 20230512-5106.

Comment Date: 5 p.m. ET 6/2/23.

Docket Numbers: ER23-1372-001.

Applicants: Gaucho Solar LLC.

Description: Tariff Amendment: Response to Deficiency Letter to be effective 5/1/2023.

Filed Date: 5/12/23.

Accession Number: 20230512-5109.

Comment Date: 5 p.m. ET 6/2/23.

Docket Numbers: ER23-1492-000.

Applicants: Santa Paula Energy Storage, LLC.

Description: Supplement to March 28, 2023 Santa Paula Energy Storage, LLC tariff filing.

Filed Date: 5/12/23.

Accession Number: 20230512-5144.

Comment Date: 5 p.m. ET 5/19/23.

Docket Numbers: ER23-1574-001.

Applicants: PJM Interconnection, L.L.C.

Description: Tariff Amendment: ISA, SA No. 6849; Queue No. AE1-170 Supplement to Filing to be effective 3/6/2023.

Filed Date: 5/12/23.

Accession Number: 20230512-5127.

Comment Date: 5 p.m. ET 6/2/23.

Docket Numbers: ER23-1869-000.

Applicants: Idaho Power Company.

Description: § 205(d) Rate Filing: Unexecuted GIA for Filing Appaloosa #590 to be effective 5/11/2023.

Filed Date: 5/12/23.

Accession Number: 20230512-5000.

Comment Date: 5 p.m. ET 6/2/23.

Docket Numbers: ER23-1870-000.

Applicants: Dominion Energy South Carolina, Inc.

Description: § 205(d) Rate Filing: ODPU CIAC to be effective 7/12/2023.

Filed Date: 5/12/23.

Accession Number: 20230512-5025.

Comment Date: 5 p.m. ET 6/2/23.

Docket Numbers: ER23-1872-000.

Applicants: PJM Interconnection, L.L.C.

Description: § 205(d) Rate Filing: Designated Entity Agreement, SA No. 6891 between PJM and Potomac Edison to be effective 4/14/2023.

Filed Date: 5/12/23.

Accession Number: 20230512-5114.

Comment Date: 5 p.m. ET 6/2/23.

Docket Numbers: ER23-1873-000.

Applicants: PJM Interconnection, L.L.C.

Description: § 205(d) Rate Filing: Designated Entity Agreement, SA No. 6892 between PJM and PPL EU to be effective 4/14/2023.

Filed Date: 5/12/23.

Accession Number: 20230512-5118.

Comment Date: 5 p.m. ET 6/2/23.

Docket Numbers: ER23-1874-000.

Applicants: PJM Interconnection, L.L.C.

Description: § 205(d) Rate Filing: Black Start Service Revisions to Enhance Fuel Assurance to be effective 1/29/2022.

Filed Date: 5/12/23.

Accession Number: 20230512-5135.

Comment Date: 5 p.m. ET 6/2/23.

Docket Numbers: ER23-1875-000.

Applicants: ISO New England Inc.

Description: ISO New England Inc. submits Capital Budget Quarterly Filing for First Quarter of 2023.

Filed Date: 5/12/23.

Accession Number: 20230512-5139.

Comment Date: 5 p.m. ET 6/2/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2023.
Kimberly D. Bose,
Secretary.

[FR Doc. 2023-10619 Filed 5-17-23; 8:45 am]

BILLING CODE 6717-01-P